DEPARTMENT OF STATE

22 CFR Part 172

[Public Notice: 12905]

RIN 1400-AG21

Service of Process; Address Change

AGENCY: Department of State.

ACTION: Final rule.

SUMMARY: This rule provides a change in the address for service of process for summonses, complaints, or other legal documents directed to the Department of State or to any Department employee or former employee in connection with federal or state litigation.

DATES: This rule is effective January 13, 2026.

FOR FURTHER INFORMATION CONTACT: Alice Kottmyer, Attorney Adviser, Office of Management, kottmyeram@state.gov.

SUPPLEMENTARY INFORMATION: As a result of the 2025 reorganization of functions within the Department of State, the office formerly designated to receive service of process has been eliminated. The office now designated to receive service of legal documents, including commercial garnishments, is the Office of the Executive Secretariat. This final rule makes that change. The Department will also coordinate with the Office of Personnel Management to change the Department's address for service of process listed in Appendix A of 5 CFR part 581.

In addition, the National Defense Authorization Act for FY 2026 changed the names of some Department bureaus, including the Bureau of Human Resources, which is included in Amendatory Instruction 4.

Regulatory Analysis

Administrative Procedure Act

This rule is being published as a final rule and is exempt from notice and comment as a rule of agency management. Since the rule is exempt from 5 U.S.C. 553, the delay provisions of 5 U.S.C. 553(d) do not apply.

Congressional Review Act

As this rule is a rule of agency organization, procedure, or practice that does not substantially affect the rights or obligations of non-agency parties, it is not a “rule” that is covered by the Congressional Review Act. 5 U.S.C. 804(3)(C).

Unfunded Mandates Reform Act of 1995

This rule will not result in the expenditure by State, local, or tribal governments, in the aggregate, or by the private sector, of $100 million in any year; and it will not significantly or uniquely affect small governments. Therefore, no actions were deemed necessary under the provisions of the Unfunded Mandates Reform Act of 1995.

Executive Order 13175

The Department has determined that this rulemaking will not have tribal implications, will not impose substantial direct compliance costs on Indian tribal governments, and will not pre-empt tribal law. Accordingly, the requirements of Executive Order 13175 do not apply to this rulemaking.

Regulatory Flexibility Act: Small Business

The Department of State certifies that this rulemaking will not have an impact on a substantial number of small entities. A regulatory flexibility analysis is not required under the Regulatory Flexibility Act (5 U.S.C. 601, et seq.).

Executive Order 12866, 14192, and 13563

OIRA has designated this rule as “not significant” under Executive Order 12866; therefore, the rule is exempt from the provisions of Executive Order 14192. The benefits of the rule in providing clarity to the public on how to serve documents on the Department outweigh any costs to the public, which are minimal.

Executive Order 12988

The Department of State has reviewed this rule in light of Executive Order 12988 to eliminate ambiguity, minimize litigation, establish clear legal standards, and reduce burden.

Executive Orders 12372 and 13132

This rule will not have substantial direct effect on the states, on the relationships between the national government and the states, or on the distribution of power and responsibilities among the various levels of government. Therefore, in accordance with Executive Order 13132, it is determined that this rule does not have sufficient federalism implications to require consultations or warrant the preparation of a federalism summary impact statement. Executive Order 12372, regarding intergovernmental consultation on federal programs and activities, does not apply to this regulation.

Paperwork Reduction Act

This rulemaking does not create or modify any information collections within the meaning of the Paperwork Reduction Act, 44 U.S.C. Chapter 35.

List of Subjects in 22 CFR Part 172

Administrative practice and procedure, Courts, Government employees.

Accordingly, for the reasons stated in the preamble, the Department of State amends part 172 of Title 22, Code of Federal Regulations, to read as follows:

PART 172—SERVICE OF PROCESS; PRODUCTION OR DISCLOSURE OF OFFICIAL INFORMATION IN RESPONSE TO COURT ORDERS, SUBPOENAS, NOTICES OF DEPOSITIONS, REQUESTS FOR ADMISSIONS, INTERROGATORIES, OR SIMILAR REQUESTS OR DEMANDS IN CONNECTION WITH FEDERAL OR STATE LITIGATION; EXPERT TESTIMONY

1. The authority citation for part 172 continues to read as follows:

Authority: 5 U.S.C. 301; 8 U.S.C. 1202(f); 22 U.S.C. 2651a, 2664, 3926.

2. Amend § 172.2 by:

a. Revising paragraph (a); and

b. In paragraphs (c) and (e), removing the term “L/H-EX” and adding, in its place, the term “S/ES-EX”.

The revision reads as follows:

§ 172.2 Service of summonses and complaints.

(a) Only the Office of the Executive Secretariat (S/ES-EX) is authorized to receive and accept summonses or complaints sought to be served upon the Department or Department employees. All such documents should be delivered or addressed to: Congressional & Litigation Support Office, Office of the Executive Secretariat (S/ES-EX), Room 1464, 2201 C Street NW, Washington, DC 20520.

* * * * *

§ 173.3 [Amended]

3. Amend § 172.3 in paragraphs (a) and (d) by removing the term “L/H-EX” and adding in its place the term “S/ES-EX”.

§ 172.4 [Amended]

4. Amend § 172.4 by:

a. In paragraph (a) removing the title “Director General of the Foreign Service and Director of Personnel (M/DGP)” and adding in its place the title “Assistant Secretary for Human Resources”; and

b. In paragraph (c) by removing the title “Director General of the Foreign Service and Director of Personnel” and adding in its place the title “Assistant Secretary for Human Resources”.

Alice M. Kottmyer,
Attorney-Adviser, Office of the Legal Adviser, Department of State.

[FR Doc. 2026-00482 Filed 1-12-26; 8:45 am]

BILLING CODE 4710-08-P